ELECTION ASSISTANCE COMMISSION

Publication of State Plan Pursuant to the Help America Vote Act

AGENCY: U.S. Election Assistance Commission (EAC).

ACTION: Notice.

SUMMARY: Pursuant to Sections 254(a)(11)(A) and 255(b) of the Help America Vote Act (HAVA), Public Law 107-252, as amended by Section 622 of the Consolidated Appropriations Act, 2012, the U.S. Election Assistance Commission (EAC) hereby causes to be published in the Federal Register this notice in reference to the changes made to the HAVA State plan previously submitted by Virginia. The revised State plan will be posted on the EAC Web site.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the territories of American Samoa, Guam, Puerto Rico, and the U.S. Virgin Islands. 69 FR 14002. HAVA anticipated that States, territories and the District of Columbia would change or update their plans from time to time pursuant to HAVA Section 254(a)(11) through (13). HAVA Sections 254(a)(11)(A) and 255 require EAC to publish such updates. This is the third revision to the State plan for Virginia.

The amendments to Virginia's State plan provide for compliance with Title III and with the Military and Overseas Voter Empowerment Act (MOVE Act). In accordance with HAVA Section 254(a)(12), all the State plans submitted for publication provide information on how the respective State succeeded in carrying out its previous State plan. Virginia confirms that its amendments to the State plan were developed and submitted to public comment in accordance with HAVA Sections 254(a)(11), 255, and 256.

Upon the expiration of thirty days from April 18, 2012, the State is eligible to implement the changes addressed in the plan that is published herein, in accordance with HAVA Section 254(a)(11)(C). EAC wishes to acknowledge the effort that went into revising this State plan and encourages further public comment, in writing, to the State election official listed below.

Chief State Election Official

Mr. Donald Palmer, Secretary, State Board of Elections, Washington Building, First Floor, 1100 Bank Street, Richmond, Virginia 23219, Phone: (804) 864-8901 or 1(800) 552-9745, Fax: (804) 371-0194.

Thank you for your interest in improving the voting process in America.

Dated: April 3, 2012.
Mark A. Robbins,
General Counsel & Acting Executive Director, U.S. Election Assistance Commission.

[FR Doc. 2012-9280 Filed 4-17-12; 8:45 am]

BILLING CODE 6820-KF-P